DEPARTMENT OF HEALTH AND HUMAN SERVICES

Centers for Disease Control and Prevention

[60-Day 07-07AN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Program Effectiveness Evaluation of Workplace Intervention for Intimate Partner Violence (IPV)—New—National Center for Injury Prevention and Control, Centers for Disease Control and Prevention (CDC).

Background and Brief Description

Intimate partner violence (IPV) affects a substantial number of Americans, and there has recently been increasing recognition of the impact it has on the workplace. In addition to direct impacts (batterers often stalk or even attack IPV victims at their place of work), IPV has indirect impacts on the workplace environment through lost productivity due to medical leave, absenteeism, and fear and distraction on the part of victims and coworkers. The Centers for Disease Control and Prevention (CDC) has employed contractor support to evaluate an ongoing workplace IPV prevention program being implemented at a national corporation. The purpose of the proposed evaluation is to document in detail the workplace IPV prevention activities delivered by the company, to determine the impact of these activities on short-term and long-term outcomes, and to determine the cost-effectiveness of the program. All managers at the corporation will be screened to assess training experiences. Then, more in-depth surveys will be done among managers who have not had the corporation's IPV training. We will survey those 500 managers at baseline, and 6 and 12 months later. Manager surveys will focus on knowledge/awareness of IPV and company resources for IPV and number of referrals for IPV assistance. We will also survey employees of those managers using an anonymous web-based survey at baseline and 12 months later to assess their self-evaluated productivity, absenteeism, and perceptions of manager behavior. We will compare the responses of managers (and their employees) who received the IPV training in the study period (i.e., sometime between the baseline and 12 month surveys) with untrained managers. The study will provide CDC and employers information about the potential effectiveness and cost-effectiveness of workplace IPV intervention strategies.

There are no costs to respondents except their time to participate in the interview.

Estimate of Annualized Burden Hours
Respondents | Number of respondents | Number of responses per respondent | Average burden per response (in hours) | Total burden (in hours)
Employee | 1500 | 2 | 30/60 | 1500
Manager | 500 | 3 | 30/60 | 75
Total | 2000 |  |  | 2250

Dated: February 28, 2007.
Joan F. Karr,
Acting Reports Clearance Officer, Centers for Disease Control and Prevention.

[FR Doc. E7-3986 Filed 3-6-07; 8:45 am]

BILLING CODE 4163-18-P